DEPARTMENT OF LABOR

Office of Labor-Management Standards

Extension of Information Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Office of Labor-Management Standards (OLMS) of the Department of Labor (Department) is soliciting comments concerning the proposed extension of the collection of information requirements implementing Executive Order (E.O.) 13496: Notification of Employee Rights Under Federal Labor Laws. A copy of the proposed information collection request can be obtained by contacting the office listed below in the addresses section of this Notice.

DATES: Written comments must be submitted to the office listed in the addresses section below on or before April 26, 2013.

ADDRESSES: Andrew R. Davis, Chief of the Division of Interpretations and Standards, Office of Labor-Management Standards, U.S. Department of Labor, 200 Constitution Avenue NW., Room N-5609, Washington, DC 20210, olms-public@dol.gov, (202) 693-0123 (this is not a toll-free number), (800) 877-8339 (TTY/TDD).

Please use only one method of transmission for comments (mail or Email).

SUPPLEMENTARY INFORMATION:

I. Background

President Barack Obama signed Executive Order 13496 (E.O. 13496 on January 30, 2009, requiring certain Government contractors and subcontractors to post notices informing their employees of their rights as employees under Federal labor laws. The Order also provides the text of contractual provisions that Federal Government contracting departments and agencies must include in every Government contract, except for collective bargaining agreements and contracts for purchases under the Simplified Acquisition Threshold.

OLMS administers the enforcement provisions of Executive Order 13496, while the compliance evaluation and investigatory provisions are handled by the Department's Office of Federal Contract Compliance Programs (OFCCP), pursuant to the Order's implementing regulatory provisions (29 CFR Part 471). Complaints can be filed with both agencies.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department seeks extension of the current approval to collect this information. An extension is necessary because if this information collection is not conducted, E.O. 13496 could not be enforced through the complaint procedure.

E.O. 13496 advances the Administration's goal of promoting economy and efficiency of Federal government procurement by ensuring that workers employed in the private sector as a result of Federal government contracts are informed of their rights to engage in union activity and collective bargaining. Knowledge of such basic statutory rights promotes stable labor-management relations, thus reducing costs to the Federal government.

The contractual provisions require contractors and subcontractors to post a notice, created by the Secretary of Labor, informing employees of their rights under the National Labor Relations Act. The notice also provides a statement of the policy of the United States to encourage collective bargaining, as well as a list of activities that are illegal under the Act. The notice concludes with a general description of the remedies to which employees may be entitled if these rights have been violated and contact information for further information about those rights and remedies, as well as enforcement procedures.

The clause also requires contractors to include the same clause in their nonexempt subcontracts and purchase orders, and describes generally the sanctions, penalties, and remedies that may be imposed if the contractor fails to satisfy its obligations under the Order and the clause.

The regulatory provisions implementing E.O. 13496 (29 CFR part 471) include the language of the required notices, and they explain posting and contractual requirements, the complaint process, the investigatory process, and sanctions, penalties, and remedies that may be imposed if the contractor or subcontractor fails to comply with its obligations under the Order. Specifically, 29 CFR part 471.11(c) sets forth the procedures that the Department must use when accepting written complaints alleging that a contractor doing business with the Federal government has failed to post the notice required by the Executive Order.

Type of Review: Extension.

Agency: Office of Labor-Management Standards.

OMB Number: 1245-0004.

Affected Public: Employees of Federal Contractors and Subcontractors.

Total Respondents: 25.

Total Annual Responses: 25.

Estimated Total Burden Hours: 32.

Estimated Time per Response: 1.28 hours.

Frequency: On occasion of employee of a Federal contractor or subcontractor filing a complaint alleging a violation of proposed 29 CFR part 471.

Total Burden Cost (capital/startup): $12.50 ($0.50 per response × 25 respondents).

Total Burden Cost (operating/maintenance): $0.

Employee Complaints Cost: $761 ($30.44 per response × 25 respondents).

Total Annual Burden Cost: $773.50 ($12.50 + $761).

Total respondent and responses estimates are based upon the estimate in the E.O. 13496 final rule of 50. See 75 FR 28368. However, since the Department has no record of employee complaints received, the Department has lowered its complaint estimate to 25.

The Department has not adjusted its total employee complaint hour estimate of 1.28 hours, which it estimated in the E.O. 13496 final rule. Id.

The Department has updated the employee cost burden per complaint from the past estimates in the supporting statement sent to OMB and the Notice of Proposed Rulemaking. See 74 FR 38496. The Department estimates that it will take an average of 1.28 hours to complete a complaint. Based on the average seasonally-adjusted hourly earnings on private non-farm payrolls for all workers of $23.78, we estimate that an employee will incur a cost of $30.44 for the 1.28 hours involved ($23.78 × 1.28) in preparing a complaint. Additionally, employees will incur costs of $0.50 per complaint in capital/start-up costs ($0.46 for postage + $0.03 for an envelope + $0.01 for paper) for a total cost per complaint of $30.94. The total cost for the estimated 25 complaints is $773.50. There are no ongoing operation/maintenance costs associated with this information collection.

Comments submitted in response to this notice will be summarized and/or included in the request for Office of Management and Budget approval of the information collection request; they will also become a matter of public record.

Dated: February 13, 2013.
Andrew R. Davis,
Chief of the Division of Interpretations and Standards, Office of Labor-Management Standards, U.S. Department of Labor.

[FR Doc. 2013-04267 Filed 2-22-13; 8:45 am]

BILLING CODE P